DEPARTMENT OF COMMERCE

National Oceanic and Atmospheric Administration

Proposed Information Collection; Comment Request; Highly Migratory Species Scientific Research Permits, Exempted Fishing Permits, and Letters of Authorization

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 31, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Heather Stirratt, National Marine Fisheries, 1315 East-West Highway, Silver Spring, MD 20910 or (301) 713-2347.

SUPPLEMENTARY INFORMATION:

I. Abstract

The information requested will be used in support of the National Marine Fisheries Service's (NMFS) issuing Scientific Research Permits (SRP), Exempted Fishing Permits (EFP), and Letters of Authorization (LOA) regarding highly migratory species (HMS). This information will also enhance and facilitate NMFS' compliance enforcement capabilities regarding HMS scientific research and exempted fishing activities. In addition, the information will assist with future stock assessments.

II. Method of Collection

Information is submitted on forms or other written format, and may be submitted electronically by e-mail.

III. Data

OMB Number: 0648-0471.

Form Number: None.

Type of Review: Regular submission.

Affected Public: Business and other for-profit organizations; individuals or households; not-for-profit institutions; State, local, and tribal government.

Estimated Number of Respondents: 45.

Estimated Time per Response: 2 hours for a scientific research plan; 40 minutes for an application for an EFP, display, SRP, chartering permit, or LOA for Highly Migratory Species; 1 hour for an interim report; 30 minutes for an annual fishing report; 15 minutes for an application for an amendment to an EFP; 5 minutes for notification of departure phone calls to NMFS Enforcement; 2 minutes for “no-catch” reports; and 2 minutes for tag applications.

Estimated Total Annual Burden Hours: 169.

Estimated Total Annual Cost to Public: $68.45.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 25, 2005.
Gwellnar Banks,
Management Analyst, Office of the Chief Information Officer.

[FR Doc. 05-17284 Filed 8-30-05; 8:45 am]

BILLING CODE 3510-22-P